SECURITIES AND EXCHANGE COMMISSION

[Release No. 34-43338; File No. SR-Amex-00-53]

Self-Regulatory Organizations; Notice of Filing and Order Granting Accelerated Approval of a Proposed Rule Change by the American Stock Exchange LLC Relating to the streetTracksˢᵐ Dow Jones Global Titans Index Fund

Correction

In notice document 00-25438 appearing on page 59235 in the issue of Wednesday, October 4, 2000 the docket number is corrected to read as set forth above.

[FR Doc. C0-25438 Filed 11-13-00; 8:45 am]

BILLING CODE 1505-01-D

SECURITIES AND EXCHANGE COMMISSION

[Release No. 34-43435; File No. SR-NASD-99-69]

Self-Regulatory Organizations; Order Approving Proposed Rule Change and Notice of Filing and Order Granting Accelerated Approval of Amendment No. 3 Thereto by the National Association of Securities Dealers, Inc. Amending Certain Listing Standards of the Nasdaq Stock Market, Inc.

Correction

In notice document 00-26803 appearing on page 62779 in the issue of Thursday, October 19, 2000, the docket number is corrected to read as set forth above.

[FR Doc. C0-26803 Filed 11-13-00; 8:45 am]

BILLING CODE 1505-01-D